DEPARTMENT OF EDUCATION

[CFDA No.: 84.153A]

Office of Postsecondary Education, Business and International Education Program; Notice Inviting Applications for New Awards for Fiscal Year (FY) 2001

Purpose of Program: The Business and International Education Program provides grants to institutions of higher education to enhance international business education programs and to expand the capacity of the business community to engage in international economic activities.

Eligible Applicants: Institutions of higher education that enter into agreements with trade associations, business enterprises or trade organizations that are engaged in international economic activity.

Deadline for Transmittal of Applications: November 3, 2000.

Deadline for Intergovernmental Review: January 2, 2001.

Applications Available: September 1, 2000.

Available Funds: $2,000,000. The estimated amount of funds available for new awards under this competition is based on the Administration's request for this program for FY 2001. The actual level of funding, if any, is contingent on final congressional action.

Estimated Range of Awards: $50,000-$95,000.

Estimated Average Size of Awards: $76,938 per year.

Estimated Number of Awards: 26.

Note: The Department is not bound by any estimates in this notice.

Project Period: Up to 24 months.

Applicable Regulations: (a) The Education Department General Administrative Regulations (EDGAR) in 34 CFR parts 74, 75, 77, 79, 82, 85, 86, 97, 98, and 99; and (b) the regulations for this program in 34 CFR parts 655 and 661.

SUPPLEMENTARY INFORMATION: Matching requirement: Under Title VI, Part B, section 613(d) of the Higher Education Act of 1965, as amended, Business and International Education Program grantees must provide no less than 50 percent of the total cost of projects in each fiscal year. Example: The institution's total costs of the proposed project will be $140,000 per year. The institution may request a grant in the amount of $70,000 or less. The institution must provide the remaining $70,000 in cash or in-kind contributions.

Priorities

Invitational Priority: The Secretary is particularly interested in applications that meet the following invitational priority. However, under 34 CFR 75.105(c)(1) an application that meets this invitational priority does not receive competitive preference over other applications.

Applications from institutions of higher education that propose educational programs abroad, including pre-departure and post-return programs, for undergraduate and graduate students to study or intern, or both, in a foreign country for a semester or more. These programs should be integrated into the curriculum of the home institution or institutions.

For Applications or Information Contact: Tanyelle Richardson, Business and International Education Program, U.S. Department of Education, International Education and Graduate Programs Service, 1990 K Street, NW, Suite 600, Washington, DC 20006-8521. Telephone: 202-502-7626. The e-mail address for Ms. Richardson is:

tanyelle_richardson@ed.gov

Individuals who use a telecommunications device for the deaf (TDD) may call the Federal Information Relay Service (FIRS) at 1-800-877-8339.

Individuals with disabilities may obtain this document in an alternate format (e.g., Braille, large print, audiotape, or computer diskette) on request to the appropriate contact person listed in the preceding paragraph. However, the Department is not able to reproduce in an alternate format the standard forms included in the application package.

Electronic Access to This Document

You may view this document, as well as all other Department of Education documents published in the Federal Register, in text or Portable Document Format (PDF) on the Internet at either of the following sites:

http://ocfo.ed.gov/fedreg.htm

http://www.ed.gov/news.html

To use PDF you must have Adobe Acrobat Reader which is available free at either of the previous sites. If you have any questions about using the PDF, call the U.S. Government Printing Office (GPO) toll free, at 1-888-293-6498; or in the Washington, D.C. area, at (202) 512-1530.

Note: The official version of this document is the document published in the Federal Register. Free Internet access to the official edition of the Federal Register and the Code of Federal Regulations is available on GPO Access at: http://www.access.gpo.gov/nara/index.html

Program Authority: 20 U.S.C. 1130a-1130b.

Dated: August 4, 2000.
A. Lee Fritschler,
Assistant Secretary Office of Postsecondary Education.

[FR Doc. 00-20232 Filed 8-9-00; 8:45 am]

BILLING CODE 4000-01-P